DEPARTMENT OF THE INTERIOR

National Park Service

[NPS-WASO-NAGPRA-13614: PPWOCRADN0-PCU00RP14.R50000]

Notice of Intent To Repatriate Cultural Items: U.S. Department of the Interior, National Park Service, Grand Teton National Park, Moose, WY

AGENCY: National Park Service, Interior.

ACTION: Notice.

SUMMARY: The U.S. Department of the Interior, National Park Service, Grand Teton National Park, in consultation with the appropriate Indian tribes or Native Hawaiian organizations, has determined that the cultural items listed in this notice meet the definition of sacred objects. Lineal descendants or representatives of any Indian tribe or Native Hawaiian organization not identified in this notice that wish to claim these cultural items should submit a written request to Grand Teton National Park. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to Grand Teton National Park at the address in this notice by September 16, 2013.

ADDRESSES: Mary Gibson Scott, Superintendent, Grand Teton National Park, P.O. Drawer 170, Moose, WY 83012, telephone (307) 739-3410, email mary_gibson_scott@nps.gov.

SUPPLEMENTARY INFORMATION: Notice is here given in accordance with the Native American Graves Protection and Repatriation Act (NAGPRA), 25 U.S.C. 3005, of the intent to repatriate cultural items under the control of the U.S. Department of the Interior, National Park Service, Grand Teton National Park, Moose, WY, that meet the definition of sacred objects under 25 U.S.C. 3001.

This notice is published as part of the National Park Service's administrative responsibilities under NAGPRA, 25 U.S.C. 3003(d)(3). The determinations in this notice are the sole responsibility of the Superintendent, Grand Teton National Park.

History and Description of the Cultural Items

During the 1920s-1950s, David T. Vernon purchased, from native people and collectors, more than 1,400 items of Native American art and artifacts representing more than 100 North American tribes. In 1968, part of his collection, including the cultural items, was sold by David T. Vernon to the Jackson Hole Preserve, Inc. On December 13, 1976, Laurance S. Rockefeller, President of the Jackson Hole Preserve, Inc., donated the David T. Vernon Collection to Grand Teton National Park. The three sacred objects are two masks of braided cornhusks with cornhusk fringes and one triangular rattle made from a piece of elm bark.

The three cultural items came from the Seneca Nation of Indians (previously listed as the Seneca Nation of New York) and the societies to which they belong are still active in the Allegany and Cattaraugus communities. The sacred objects are needed by the still functioning Husk Face Society common to the Newtown Longhouse of the Cattaraugus community and Cold Spring Longhouse of the Allegany community.

Determinations Made by Grand Teton National Park

Officials of Grand Teton National Park have determined that:

• Pursuant to 25 U.S.C. 3001(3)(C), the three cultural items described above are specific ceremonial objects needed by traditional Native American religious leaders for the practice of traditional Native American religions by their present-day adherents.

• Pursuant to 25 U.S.C 3001 (2) there is a relationship of shared group identity that can be reasonably traced between the sacred objects and the Seneca Nation of Indians (previously listed as the Seneca Nation of New York).

Additional Requestors and Disposition

Lineal descendants or representatives of any Indian tribe or Native Hawaiian organization not identified in this notice that wish to claim these cultural items should submit a written request with information in support of the claim to Mary Gibson Scott, Superintendent, Grand Teton National Park, P.O. Drawer 170, Moose, WY 83012, telephone (307) 739-3410, email mary_gibson_scott@nps.gov, by September 16, 2013. After that date, if no additional claimants have come forward, transfer of control of the sacred objects to the Seneca Nation of Indians (previously listed as the Seneca Nation of New York) may proceed.

Grand Teton National Park is responsible for notifying the Seneca Nation of Indians (previously listed as the Seneca Nation of New York); Seneca-Cayuga Tribe of Oklahoma; and Tonawanda Band of Seneca (previously listed as the Tonawanda Band of Seneca Indians of New York) that this notice has been published.

Dated: July 23, 2013.
Sherry Hutt,
Manager, National NAGPRA Program.

[FR Doc. 2013-20063 Filed 8-15-13; 8:45 am]

BILLING CODE 4312-50-P